FEDERAL COMMUNICATIONS COMMISSION

[CC Docket No. 92-237; DA 06-2275]

Next Meeting of the North American Numbering Council

AGENCY: Federal Communications Commission.

ACTION: Notice.

SUMMARY: On November 3, 2006, the Commission released a public notice announcing the appointment of a new Designated Federal Officer (DFO) to the North American Numbering Council (NANC) and announcing the November 30, 2006 meeting and agenda of the NANC. The intended effect of this action is to make the public aware of a new DFO and of the NANC's next meeting and agenda.

DATES: Thursday, November 30, 2006, 9:30 a.m.

ADDRESSES: Competition Policy Division, Wireline Competition Bureau, Federal Communications Commission, Portals II, 445 Twelfth Street, SW., Suite 5-C162, Washington, DC 20554. Requests to make an oral statement or provide written comments to the NANC should be sent to Deborah Blue.

FOR FURTHER INFORMATION CONTACT: Deborah Blue, Special Assistant to the Designated Federal Officer (DFO) at (202) 418-1466 or Deborah.Blue@fcc.gov. The fax number is: (202) 418-2345. The TTY number is: (202) 418-0484.

SUPPLEMENTARY INFORMATION: Released: November 3, 2006. The Wireline Competition Bureau (Bureau) has appointed Marilyn Jones, FCC attorney, to serve as the Designated Federal Officer (DFO) to the NANC. Ms. Jones currently serves as the Alternate DFO to the NANC.

The North American Numbering Council (NANC) has scheduled a meeting to be held Thursday, November 30, 2006, from 9:30 a.m. until 5 p.m. The meeting will be held at the Federal Communications Commission, Portals II, 445 Twelfth Street, SW., Room TW-C305, Washington, DC. This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting.

People with Disabilities: To request materials in accessible formats for people with disabilities (braille, large print, electronic files, audio format), send an e-mail to fcc504@fcc.gov or call the Consumer and Governmental Affairs Bureau at 202-418-0530 (voice), 202-418-0432 (tty). Reasonable accommodations for people with disabilities are available upon request. Include a description of the accommodation you will need, including as much detail as you can. Also include a way we can contact you if we need more information. Please allow at least five days advance notice; last minute requests will be accepted, but may be impossible to fill.

Proposed Agenda—Thursday, November 30, 2006, 9:30 a.m.:*

1. Announcements and Recent News.

2. Approval of Minutes

—No Minutes to Approve.

3. Report of the North American Numbering Plan Administrator (NANPA).

Action Item: Resolve Disposition of Unused Travel Fund.

4. Report of the National Thousands Block Pooling Administrator (PA).

5. Report of the North American Numbering Portability Management (NAPM) LLC.

6. Status of the Industry Numbering Committee (INC) activities.

7. Reports from the Issues Management Groups (IMGs).

Action items from pANI IMG:

(a) Formal approval by NANC of timeline for pANI Administration. Permanent Solution Recommendations submitted to NANC Chairman for transmittal to FCC by NANC Chairman on October 10, 2006;

(b) Formal NANC consideration and adoption of NANC Recommendations for pANI Administration as developed by the pANI IMG to meet the time line established by NANC Chairman's letter to FCC on October 10, 2006;

(c) Subject to approval of item 2 by NANC, recommendation that NANC Recommendations for pANI Administration be forwarded to the ATIS Industry Numbering Committee for action and development of INC pANI Guidelines.

8. Report from the North American Numbering Plan Billing and Collection (NANP B&C) Agent.

9. Report of the Billing and Collection Working Group (B&C WG).

Action items:

(a) Annual evaluation of B&C Agent;

(b) Approve election of co-chairs.

10. Report of the Local Number Portability Administration (LNPA) Working Group

Action Items:

(a) PIM 32 and 50—Referred to the NANC May 2006: LNPAWG has been unable to resolve PIM 32—Porting Reseller Numbers;

(b) PIM 50—Customer Service Record Too Large, and seeks guidance from NANC on how best to proceed.

11. Report of the Numbering Oversight Working Group (NOWG).

Action Items:

(a) Submission of 2005 NANPA and PA Annual Performance Reports, as approved in June 2006;

(b) Approve 2006 NANPA and PA Annual Performance Surveys and cover letter (to be signed by the NANC chair);

(c) Approve newly elected NOWG co-chairs (2 year term—2007/2008).

12. Report of the Future of Numbering Working Group (FoN WG).

Action Items: None.

13. Special Presentations.

14. Update List of the NANC Accomplishments.

15. Summary of Action Items.

16. Public Comments and Participation (five minutes per speaker).

17. Other Business.

Adjourn no later than 5 p.m.

*The Agenda may be modified at the discretion of the NANC Chairman with the approval of the DFO.

Federal Communications Commission.
Marilyn Jones,
Attorney, Wireline Competition Bureau.

[FR Doc. E6-18852 Filed 11-7-06; 8:45 am]

BILLING CODE 6712-01-P